NATIONAL SCIENCE FOUNDATION

Notice of NITRD Workshop on the National Spectrum Research and Development Plan

AGENCY: Networking and Information Technology Research and Development (NITRD) National Coordination Office (NCO), National Science Foundation (NSF).

ACTION: Notice of Workshop.

SUMMARY: As directed in the recent National Spectrum Strategy, the NITRD Wireless Spectrum R&D Interagency Working Group (WSRD IWG) is working on behalf of the White House Office of Science and Technology Policy (OSTP) to develop the National Spectrum R&D Plan. This workshop is an opportunity for academia, industry, and the public to engage in dialog with the WSRD IWG authors on the potential content of that plan.

DATES: May 17, 2024.

ADDRESSES: The Workshop on the National Spectrum R&D Plan will be co-located with NSF Spectrum Week and will take place on May 17, 2024, from 8:00 a.m. to 3:30 p.m. (ET), at the Hilton Arlington National Landing, 2399 Richmond Hwy., Arlington, VA 22202.

Instructions: Registration is required for in-person attendance; remote viewing will be available via webcast. The agenda, registration link, and webcast information will be available the week of the event at: https://www.nitrd.gov/wsrd-workshop-on-the-national-spectrum-rd-plan/.

FOR FURTHER INFORMATION CONTACT: Mallory Hinks at (202) 459-9674 or email wsrd-workshop-2024@nitrd.gov. Individuals who use a telecommunications device for the deaf (TDD) may call the Federal Information Relay Service (FIRS) at 1-800-877-8339 between 8 a.m. and 8 p.m., Eastern time, Monday through Friday.

SUPPLEMENTARY INFORMATION:

Overview. This notice is issued on behalf of the NITRD WSRD IWG. Agencies of the WSRD IWG are conducting a workshop as a follow-up to the recent Request for Information (RFI) on the National Spectrum Research and Development Plan in which the NITRD NCO sought public input for the creation of the National Spectrum R&D Plan. The R&D Plan will act as an organizing national document, providing guidance for government investments in spectrum-related research and offering valuable insights. The Plan will identify key innovation areas for spectrum research and development and will include a process to refine and enhance these areas on an ongoing basis.

Workshop Objectives. This workshop will provide an opportunity for the RFI respondents and others from academia, industry, and the public to engage in open dialog with the spectrum community and WSRD IWG authors on the potential content of the National Spectrum R&D Plan.

References

National Spectrum Strategy: https://www.ntia.gov/report/2023/national-spectrum-strategy-pdf

RFI on the National Spectrum Research and Development Plan: https://www.federalregister.gov/documents/2024/02/20/2024-03400/request-for-information-on-the-national-spectrum-research-and-development-plan

Submitted by the National Science Foundation in support of the Networking and Information Technology Research and Development (NITRD) National Coordination Office (NCO) on April 12, 2024.

(Authority: 42 U.S.C. 1861.)

Suzanne H. Plimpton,
Reports Clearance Officer, National Science Foundation.

[FR Doc. 2024-08174 Filed 4-16-24; 8:45 am]

BILLING CODE 7555-01-P